DEPARTMENT OF TRANSPORTATION

Federal Motor Carrier Safety Administration

Qualification of Drivers; Exemption Applications; Diabetes

AGENCY: Federal Motor Carrier Safety Administration (FMCSA), DOT.

ACTION: Notice of denials.

SUMMARY: The FMCSA announces its denial of 17 applications from individuals who requested an exemption from the Federal diabetes standards applicable to interstate truck drivers and the reasons for the denials. The FMCSA has statutory authority to exempt individuals from diabetes standards if the exemptions granted will not compromise safety. The agency has concluded that granting these exemptions does not provide a level of safety that will equal or exceed the level of safety maintained without the exemptions for these commercial motor vehicle drivers.

FOR FURTHER INFORMATION CONTACT: Ms. Sandra Zywokarte, Office of Bus and Truck Standards and Operations, (MC-PSD), (202) 366-2987, Department of Transportation, FMCSA, 400 Seventh Street, SW., Washington, DC 20590-0001. Office hours are from 7:45 a.m. to 4:15 p.m., e.t., Monday through Friday, except Federal holidays.

SUPPLEMENTARY INFORMATION:

Background

Under 49 U.S.C. 31315 and 31136(e), FMCSA may grant an exemption from the Federal diabetes standards for commercial drivers with insulin-treated diabetes mellitus for a renewable 2-year period if it finds such an exemption would likely achieve a level of safety that is equivalent to, or greater than, the level that would be achieved absent such an exemption (49 CFR 391.41(b)(3)).

Accordingly, FMCSA evaluated 17 individual exemption requests on their merits and made a determination that these applicants do not satisfy the criteria established to demonstrate that granting an exemption is likely to achieve an equal or greater level of safety than exists without the exemption. Each applicant has, prior to this notice, received a letter of final disposition on his/her individual exemption request. Those decision letters fully outlined the basis for the denial and constitute final agency action. The list published today summarizes the agency's recent denials as required under 49 U.S.C. 31315(b)(4) by periodically publishing names and reasons for denials.

The following 4 applicants lacked sufficient recent driving experience under normal highway operating conditions over the previous three years that would serve as an adequate predictor of future safe performance:

Boyum, Allan C.

Smith, Andrew P.

Dorris, Boyd A.

Erickson, Ronald J.

One applicant, Mr. Charles E. Williams, does not have any experience operating a commercial motor vehicle (CMV) and therefore presented no evidence from which FMCSA can conclude that granting the exemption is likely to achieve a level of safety equal to that existing without the exemption.

The following 6 applicants do not have 3 years of experience driving a CMV on public highways with insulin-treated diabetes mellitus:

Corsaro, Joseph G.

Izzi, Anthony

Mays, James

Nunnally, Derril W.

Rardin, Pierce E.

Thomas, Jr., Joseph

One applicant, Mr. Robert H. Thompson, Jr., does not have recent experience driving a CMV. Applicants must have driven for at least the three years preceding application.

One applicant, Mr. Glenn A. Kotzer, had a hypoglycemic episode resulting in loss of consciousness or requiring the assistance of another person in March 2003. Applicants do not qualify for an exemption if they have had more than two hypoglycemic reactions resulting in loss of consciousness or requiring the assistance of another person in the past 5 years. Applicants must have one year of stability following any such episode.

One applicant, Mr. David Arnette, has other medical conditions making him otherwise unqualified under the Federal Motor Carrier Safety Regulations. Applicants must meet all other physical qualifications standards in 49 CFR 391.41(b)(1-13).

Two applicants, Mr. Johnathan Akins and Mr. John A. Herbert, do not have verifiable proof of commercial driving experience over the past 3 years under normal highway operating conditions that would serve as an adequate predictor of future safe performance.

One applicant from Canada, Mr. Kevin R. Durham, applied for an exemption. The medical reciprocity agreement between the United States and Canada prohibits U.S. and Canadian CMV drivers who are insulin-using-diabetics from trans-border operations. In addition, an exemption from the diabetes standards is valid for operations only within the United States. It does not exempt the driver from the physical qualification standards of any bordering jurisdiction.

Issued on: March 22, 2004.
Rose A. McMurray,
Associate Administrator for Policy and Program Development.

[FR Doc. 04-6700 Filed 3-24-04; 8:45 am]

BILLING CODE 4910-EX-P